DEPARTMENT OF JUSTICE

Antitrust Division

Notice Pursuant to The National Cooperative Research and Production Act of 1993—Cooperative Research Group on Separation Technology Research Program—Phase 2

Notice is hereby given that, on February 14, 2018, pursuant to Section 6(a) of the National Cooperative Research and Production Act of 1993, 15 U.S.C. 4301 et seq. (“the Act”), Southwest Research Institute—Cooperative Research Group on Separation Technology Research Program—Phase 2 (“STAR—Phase 2”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the party to the venture are: Amistco Separation Products, Inc. d/b/a AMACS Process Tower Internals (AMACS), Houston, TX; Chevron Energy Technology Co., a Division of Chevron USA, Inc., Houston, TX; Costacurta S.p.A.-VICO, Milano, ITALY; ExxonMobil Upstream Research Co., Spring, TX; Frames Separation Technologies B.V., Utrecht, THE NETHERLANDS; KGGP, LLC, Wichita, KS; Linde AF—Linde Engineering Division, Pullach, GERMANY; Mueller Environmental Design, Inc., Brookshire, TX; Single Buoy Moorings, Inc., Marly, SWITZERLAND; Shell International Exploration and Production Inc., Houston, TX; Sulzer Chemtech Ltd., Winterthur, SWITZERLAND; Transeparation USA LLC, Houston, TX; and SAIPEM SA, Cedex, FRANCE.

The general area of STAR—Phase 2's planned activity is to systematically test separation equipment and increase fundamental knowledge in phase separation. This will be accomplished by conducting studies on phase separation that can lead to the collection of data on equipment performance, which in turn can be used for driving separator design improvements and operational decisions.

Patricia A. Brink,
Director of Civil Enforcement, Antitrust Division.

[FR Doc. 2018-05533 Filed 3-16-18; 8:45 am]

BILLING CODE 4410-11-P